DEPARTMENT OF TRANSPORTATION

Federal Aviation Administration

Public Notice for Waiver of Aeronautical Land Use Assurance; Billings Logan International Airport, Billings, MT

AGENCY: Federal Aviation Administration, (FAA), DOT.

ACTION: Notice.

SUMMARY: Notice is being given that the FAA is considering a proposal from the City of Billings (Sponsor of the Billings Logan International Airport) to release Federal obligations on portions of the Billings Logan International Airport for disposal. The proposal consists of 15.2 acres acquired with an Airport Improvement Program grant shown as the east most section of Parcel 2A on the Airport's Exhibit “A”.

DATES: Comments must be received by May 31, 2022.

ADDRESSES: Comments on this application may be mailed or delivered to the FAA at the following address:

Mr. William C. Garrison, Manager, Federal Aviation Administration, Northwest Mountain Region, Airports Division, Helena Airports District Office, 2725 Skyway Drive, Suite 2, Helena, Montana 59602.

FOR FURTHER INFORMATION CONTACT: Mr. Joe Nye, Civil Engineer, Federal Aviation Administration, Northwest Mountain Region, Helena Airports District Office, 2725 Skyway Drive, Suite 2, Helena, MT 59602.

The request to release Federal obligations may be reviewed, by appointment, in person at the same location.

SUPPLEMENTARY INFORMATION: The FAA invites public comment on the request to release Federal obligations of 15.2 acres at the Billings Logan International Airport under the provisions of the Title 49, U.S.C. Section 47107(h).

The City of Billings, referred to herein as the Sponsor, has requested release from the Federal obligations assigned to 15.2 acres of land acquired under Airport Improvement Program Grant 3-30-0008-004-1986. The 15.2 acres is shown on the Airport's Exhibit “A” as the east most section of Parcel 2A and is isolated from the airfield by Highway 318.

The Sponsor has completed an appraisal for the 15.2 acres of Parcel 2A and found that current fair market value of the property is $223,000. The Sponsor proposes to reimburse the federal interest in the 15.2 acres of Parcel 2A by reinvesting an amount of $200,700 (90% of the current fair market value) towards the AIP eligible portion of the terminal expansion currently underway.

The Sponsor proposes to sell the property to Northwestern Energy for expansion of the Northwestern Energy Rimrock Substation. The proposed use of this property is compatible with other airport operations and the Sponsor will retain necessary easements to ensure the property continues to serve its intended purpose of approach protection and compatible land use.

Any person may inspect the request in person at the FAA office listed above under FOR FURTHER INFORMATION CONTACT.

Issued in Helena, Montana on April 25, 2022.
William C. Garrison,
Manager, Helena Airports District Office.

[FR Doc. 2022-09094 Filed 4-27-22; 8:45 am]

BILLING CODE 4910-13-P